EXPORT-IMPORT BANK

Intent To Conduct a Detailed Economic Impact Analysis

AGENCY: Export-Import Bank.

ACTION: Notice.

SUMMARY: Pursuant to the Charter of the Export-Import Bank of the United States, this notice is to inform the public that the Export-Import Bank of the United States has received an application for a $1,000 million long-term direct loan to support the export of approximately $556 million worth of mining equipment and services to Pakistan. The U.S. exports will enable the copper-gold mining project in Pakistan to establish a projected average production capacity of c.800 kdmt per annum of copper concentrate, leading to an expected output of c.220 kt of copper and c.310 koz of gold per year for Phase 1 of the project during the first ten years (100% basis, excluding 2028 ramp-up year). Available information indicates that the copper concentrate will likely be sold to smelters in other OECD jurisdictions, including Japan, Korea, Germany, Sweden, and Finland.

DATES: Comments are due 14 days from publication in the Federal Register.

ADDRESSES: Interested parties may submit comments on this transaction electronically on www.regulations.gov, or by email to economic.impact@exim.gov.

Scott Condren,
Vice President, Policy Analysis Division, Office of Policy Analysis and International Relations.

[FR Doc. 2025-09794 Filed 5-29-25; 8:45 am]

BILLING CODE 6690-01-P